DEPARTMENT OF TRANSPORTATION

Federal Railroad Administration

Notice of Application for Approval of Discontinuance or Modification of a Railroad Signal System or Relief From Requirements

Pursuant to Title 49 Code of Federal Regulations (CFR) part 235 and 49 U.S.C. 20502(a), the following railroads have petitioned the Federal Railroad Administration (FRA) seeking approval for the discontinuance or modification of the signal system or relief from the requirements of 49 CFR part 236 as detailed below.

Docket Number: FRA-2002-12177.

Applicant: CSX Transportation, Incorporated, Mr. Eric G. Peterson, Assistant Chief Engineer, Signal Design and Construction, 4901 Belfort Road, Suite 130 (S/C J-370), Jacksonville, Florida 32256.

CSX Transportation, Incorporated (CSX) seeks relief from the requirements of the Rules, Standard and Instructions, Title 49 CFR, Part 236, Section 236.312, to the extent that CSX not be required to install bridge locking devices at either end of Bridge 407, milepost BIF 40.7, on the single main track near Joliet, Illinois, on the Chicago Division, New Rock Subdivision, Western Region.

Applicant's justification for relief: The end locking devices have not been in place since the late 1960's. The movable bridge is a vertical lift span type, and has been field checked and is in balance; there has been no inclination for the bridge to rise from the seated position or not seat fully when lowered. The present functional signal controls checks the vertical position of the rail when the bridge is lowered and will not permit a signal for train movements if the rail position is not verified. The 298 foot lift span bridge is tended while trains pass and the maximum authorized speed is 10 mph. The bridge has no tendency to rise from the seated position while carrying train load, and the when the bridge is in the seated position, the mechanical motor brakes are applied, preventing the bridge from raising while engaged.

Any interested party desiring to protest the granting of an application shall set forth specifically the grounds upon which the protest is made, and contain a concise statement of the interest of the party in the proceeding. Additionally, one copy of the protest shall be furnished to the applicant at the address listed above.

All communications concerning this proceeding should be identified by the docket number and must be submitted to the Docket Clerk, DOT Central Docket Management Facility, Room PI-401, Washington, DC 20590-0001. Communications received within 45 days of the date of this notice will be considered by the FRA before final action is taken. Comments received after that date will be considered as far as practicable. All written communications concerning these proceedings are available for examination during regular business hours (9 a.m.-5 p.m.) at DOT Central Docket Management Facility, Room PI-401 (Plaza Level), 400 Seventh Street, SW., Washington, DC 20590-0001. All documents in the public docket are also available for inspection and copying on the internet at the docket facility's Web site at http://dms.dot.gov.

FRA expects to be able to determine these matters without an oral hearing. However, if a specific request for an oral hearing is accompanied by a showing that the party is unable to adequately present his or her position by written statements, an application may be set for public hearing.

Issued in Washington, DC, on May 29, 2002.
Grady C. Cothen, Jr.,
Deputy Associate Administrator for Safety Standards and, Program Development.

[FR Doc. 02-14052 Filed 6-4-02; 8:45 am]

BILLING CODE 4910-06-P